DEPARTMENT OF TRANSPORTATION

National Highway Traffic Safety Administration

[Docket No. NHTSA 2000-8591; Notice 1]

Bridgestone/Firestone, Inc., Receipt of Application for Decision of Inconsequential Noncompliance

Bridgestone/Firestone, Inc., has determined that approximately 33,000 P235/75R15 Widetrack Wintertrax tires produced in the Sao Paulo, Brazil plant and 1,400 P235/75R15 Lemans A/T tires produced in the Decatur, Illinois plant do not meet the labeling requirements mandated by Federal Motor Vehicle Safety Standard (FMVSS) No. 109, “New Pneumatic Tires.”

Pursuant to 49 U.S.C. 30118(d) and 30120(h), Bridgestone/Firestone has petitioned for a determination that the noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

The noncompliance with Section 4.2.1(c) relates to maximum load rating for a particular tire size. The Sao Paulo plant produced 33,000 P235/75R15 Widetrack Wintertrax tires from April 2000 through October 2000. The affected tires had the maximum load mismarked. The actual marking was: Max Load 650 Kg (1433 lbs.) @ 300 Kpa (44 psi). The correct marking should have been: Max Load 920 Kg (2029 lbs.) @ 300 Kpa (44 psi).

The affected P235/75R15 Widetrack Wintertrax tires meet all requirements of FMVSS No. 109 except the markings pertaining to maximum load rating.

The noncompliance with Section 4.3.4(a) relates to the maximum inflation pressure of the tire. The Decatur plant produced 1,400 P235/75R15 Lemans A/T tires during DOT weeks 36, 37 and 38 of the year 2000. The affected tires had the inflation pressure (English units only) mismarked on the sidewall opposite the DOT serial number. The actual marking was: Max Load 990 Kg (2183 lbs.) @ 340 Kpa (41 psi). The correct marking should have been: Max Load 990 Kg (2183 lbs.) @ 340 Kpa (50 psi). Bridgestone/Firestone states that this was a single mold issue and the markings in that mold have been corrected.

The affected P235/75R15 Lemans A/T tires meet all requirements of FMVSS No. 109. They have the correct inflation in metric units, and the recommended operation inflation pressure is defined by the placard on the vehicle door or within the owner manual.

Bridgestone/Firestone, Inc., submits that the noncompliance is inconsequential as it relates to motor vehicle safety.

Interested persons are invited to submit written data, views, and arguments on the application described above. Comments should refer to the docket number and be submitted to: U.S. Department of Transportation, Docket Management, Room PL-401, 400 Seventh Street, SW., Washington, DC 20590. It is requested that two copies be submitted.

All comments received before the close of business on the closing date indicated below will be considered. The application and supporting materials, and all comments received after the closing date, will also be filed and will be considered to the extent possible. When the application is granted or denied, the notice will be published in the Federal Register pursuant to the authority indicated below. Comment closing date: (February 21, 2001).

(49 U.S.C. 301118, 301120; delegations of authority at 49 CFR 1.50 and 501.8)
Issued on: January 17, 2001.
Stephen R. Kratzke,
Associate Administrator for Safety Performance Standards.

[FR Doc. 01-1851 Filed 1-19-01; 8:45 am]

BILLING CODE 4910-59-P